DEPARTMENT OF ENERGY

Privacy Act of 1974; System of Records

AGENCY: U.S. Department of Energy.

ACTION: Notice of a modified system of records.

SUMMARY: As required by the Privacy Act of 1974 and the Office of Management and Budget (OMB) Circulars A-108 and A-130, the Department of Energy (DOE or the Department) is publishing notice of a modification to an existing Privacy Act system of records. DOE proposes to amend System of Records DOE-10 Energy Employees Occupational Illness Compensation Program Act Files. This System of Records Notice (SORN) is being modified to align with new formatting requirements, published by OMB, and to ensure appropriate Privacy Act coverage of business processes and Privacy Act information. This notice also incorporates into the “Routine Uses” section changes required by amendments to The Energy Employees Occupational Illness Compensation Program Act (EEOICPA). While there are no substantive changes to the “Categories of Individuals” or “Categories of Records” sections covered by this SORN, substantive changes have been made to the “System Locations,” “Routine Uses,” and “Administrative, Technical and Physical Safeguards” sections to provide greater transparency. Changes to “Routine Uses” include new provisions related to responding to breaches of information held under a Privacy Act SORN as required by OMB's Memorandum M-17-12, “Preparing for and Responding to a Breach of Personally Identifiable Information” (January 3, 2017). Changes to routine uses pertaining to EEOICPA have been modified to remove two categories of obsolete users due to the 2004 amendments that repealed the use of physician panels. Three routine uses have been consolidated into one to reduce redundancy. Language throughout the SORN has been updated to align with applicable Federal privacy laws, policies, procedures, and best practices.

DATES: This modified SORN will become applicable following the end of the public comment period on October 23, 2024 unless comments are received that result in a contrary determination.

ADDRESSES: Written comments should be sent to the DOE Desk Officer, Office of Information and Regulatory Affairs, Office of Management and Budget, New Executive Office Building, Room 10102, 735 17th Street NW, Washington, DC 20503, and to Ken Hunt, Chief Privacy Officer, U.S. Department of Energy, 1000 Independence Avenue SW, Rm. 8H-085, Washington, DC 20585, by facsimile at (202) 586-8151, or by email at privacy@hq.doe.gov.

FOR FURTHER INFORMATION CONTACT: Ken Hunt, Chief Privacy Officer, U.S. Department of Energy, 1000 Independence Avenue SW, Rm. 8H-085, Washington, DC 20585, or by facsimile at (202) 586-8151, by email at privacy@hq.doe.gov, or by telephone at (240) 686-9485.

SUPPLEMENTARY INFORMATION: On January 9, 2009, DOE published a Compilation of its Privacy Act systems of records, which included System of Records DOE-10 Energy Employees Occupational Illness Compensation Program Act Files. This notice proposes amendments to the system locations section of that system of records by updating, removing, and adding addresses as appropriate. Addresses updated include: John A. Gordon Albuquerque Complex, Office of Science (Chicago and Oak Ridge Offices), Golden Field Offices, Lawrence Livermore National Laboratory, Lockheed Idaho Technical Center, Miamisburg Environmental Management Project, National Energy Technology Laboratory (Pittsburg, Morgantown, and Albany Offices), National Nuclear Security Administration (NNSA) Nevada Field Office, Oak Ridge Institute for Science and Education, Environmental Management Consolidated Business Center, Office of River Protection, Richland Operations Office, Savannah River Office, SLAC National Accelerator Laboratory, and Stanford Synchrotron Radiology Laboratory. Addresses removed include: Bettis Atomic Power Laboratory, Office of Energy, Efficiency and Renewable Energy (Boston and Denver Offices), Hanford Environmental Health Foundation, Philadelphia Regional Office, Radiological and Environmental Health Laboratory, and Seattle Regional Office. Addresses added include: B&W Pantex, Office of Legacy Management, Technology Engineering Center, and Peek Street Facility. In the “Routine Uses” section, this modified notice deletes a previous routine use concerning efforts responding to a suspected or confirmed loss of confidentiality of information as it appears in DOE's compilation of its Privacy Act systems of records (January 9, 2009) and replaces it with one to assist DOE with responding to a suspected or confirmed breach of its records of Personally Identifiable Information (PII), modeled with language from OMB's Memorandum M-17-12, “Preparing for and Responding to a Breach of Personally Identifiable Information” (January 3, 2017). Further, this notice adds one new routine use to ensure that DOE may assist another agency or entity in responding to the other agency's or entity's confirmed or suspected breach of PII, as appropriate, as aligned with OMB's Memorandum M-17-12. Some changes have been made to the routine uses to accommodate 2004 and 2015 amendments to EEOICPA by Subtitle E of Division C of the Ronald W. Reagan National Defense Authorization Act for Fiscal Year 2005 (Pub. L. 108-375) and Carl Levin and Howard P. “Buck” McKeon National Defense Authorization Act for Fiscal Year 2015 (Pub. L. 113-291). “Categories of Records in the System” now includes individual medical records, payroll information/records, accident reports; badging records; workers' compensation records; security badge records; security records; industrial hygiene records. “Radiological and chemical” has been added to modify “exposure records.” An administrative change required by the FOIA Improvement Act of 2016 extends the length of time a requestor is permitted to file an appeal under the Privacy Act from 30 to 90 days. Both the “System Locations” and “Administrative, Technical and Physical Safeguards” sections have been modified to reflect the Department's usage of cloud-based services for records storage. Language throughout the SORN has been updated to align with applicable Federal privacy laws, policies, procedures, and best practices.

SYSTEM NAME AND NUMBER:

DOE-10 Energy Employees Occupational Illness Compensation Program Act Files.

SECURITY CLASSIFICATION:

Unclassified.

SYSTEM LOCATION:

Systems leveraging this SORN may exist in multiple locations. All systems storing records in a cloud-based server are required to use government-approved cloud services and follow National Institute of Standards and Technology (NIST) security and privacy standards for access and data retention. Records maintained in a government-approved cloud server are accessed through secure data centers in the continental United States.

U.S. Department of Energy, 1000 Independence Avenue SW, Washington, DC 20585.

U.S. Department of Energy, 19901 Germantown Road, Germantown, MD 20874-1290.

U.S. Department of Energy, John A. Gordon Albuquerque Complex, 24600 20th Street SE, Albuquerque, NM 87116.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Operations, Highway 60, FM2373, Amarillo, TX 79177.

U.S. Department of Energy, Carlsbad Field Office, P.O. Box 3090, Carlsbad, NM 88221.

U.S. Department of Energy, Office of Science, Chicago Office, Consolidated Service Center, 9800 South Cass Avenue, Lemont, IL 60439.

U.S. Department of Energy, Fernald Environmental Management Project, 7400 Wiley Road, Cincinnati, OH 45030.

U.S. Department of Energy, General Atomics Site Office, 3550 General Atomic Court, B-7, Room 119, San Diego, CA 92121.

U.S. Department of Energy, Golden Field Office, 15013 Denver West Parkway, Golden, CO 80401.

U.S. Department of Energy, Idaho Operations Office, 1955 Fremont Avenue, Idaho Falls, ID 83415.

U.S. Department of Energy, Idaho National Engineering and Environmental Laboratory, CF 690 MS 4149, Scoville, ID 83415.

U.S. Department of Energy, Kansas City Site Office, 2000 East 95th Street, Kansas City, MO 64141-3202.

U.S. Department of Energy, NNSA Sandia Site Office, Pennsylvania & H Street, Albuquerque, NM 87185-5400.

U.S. Department of Energy, NNSA Sandia Site Office, 1515 Eubank Blvd. SE, Albuquerque, NM 87123.

U.S. Department of Energy, Knolls Atomic Power Laboratory, 2401 River Road, Niskayuna, NY 12309.

U.S. Department of Energy, Lawrence Berkeley National Laboratory, 1 Cyclotron Road, Berkeley, CA 94720.

U.S. Department of Energy, Lawrence Livermore National Laboratory, 7000 East Avenue, P.O. Box 808, L-1, Livermore, CA 94551-0808.

U.S. Department of Energy, Livermore Site Office, Nevada Test Site, University of California, P.O. Box 45, Mercury, NV 89023.

U.S. Department of Energy, The Office of Site Operations, 528 35th Street, Los Alamos, NM 87545.

U.S. Department of Energy, NNSA Los Alamos National Laboratory, SM #30 Bikini Road, Los Alamos, NM 87545.

U.S. Department of Energy, National Energy Technology Laboratory (Pittsburgh), 626 Cochran Mill Road, Pittsburgh, PA 15236.

U.S. Department of Energy, National Energy Technology Laboratory (Morgantown), 3610 Collins Ferry Road, Morgantown, WV 26505.

U.S. Department of Energy, National Energy Technology Laboratory (Albany), 1450 Queen Avenue SW, Albany, OR 97321.

U.S. Department of Energy, NNSA Nevada Field Office, 232 Energy Way, North Las Vegas, NV 89030.

U.S. Department of Energy, Nevada Test Site Mercury, Nevada, Building 111, P.O. Box 677, Mercury, NV 89023-0677.

Oak Ridge Institute for Science and Education (ORISE), 1299 Bethel Valley Road, Oak Ridge, TN 37830.

U.S. Department of Energy, Office of Science, Consolidated Service Center, P.O. Box 2001, Oak Ridge, TN 37831.

U.S. Department of Energy, Environmental Management Consolidated Business Center (EMCBC), 550 Main Street, Rm. 7-010, Cincinnati, OH 45202.

U.S. Department of Energy, Pacific Northwest National Laboratory, 902 Battelle Blvd., P.O. Box 999, Richland, WA 99352.

U.S. Department of Energy, Paducah Site Office, 5600 Hobbs Road, West Paducah, KY 42086.

U.S. Department of Energy, Portsmouth/Paducah Project Office, 3930 U.S. 23, Perimeter Road, Piketon, OH 45661.

U.S. Department of Energy, Office of River Protection, P.O. Box 450, Richland, WA 99352.

U.S. Department of Energy, Richland Operations Office, P.O. Box 550, Richland, WA 99352.

U.S. Department of Energy, Savannah River Operations Office, P.O. Box A, Aiken, SC 29801.

U.S. Department of Energy, SLAC National Accelerator Laboratory, 2575 Sand Hill Road, Menlo Park, CA 94025.

U.S. Department of Energy, Stanford Site Office, 2575 Sand Hill Road, B-41, MS: 8-A, Menlo Park, CA 94025.

U.S. Department of Energy, Stanford Synchrotron Radiation Lightsource, 2575 Sand Hill Road MS69, Menlo Park, CA 94025.

U.S. Department of Energy, Thomas Jefferson National Accelerator Facility, 12000 Jefferson Avenue, Newport News, VA 23606.

U.S. Department of Energy, Waste Isolation Pilot Project Office, P.O. Box 3090, Carlsbad, NM 88221.

U.S. Department of Energy, West Valley Demonstration Project, 10282 Rock Springs Road, West Valley, NY 14171-9799.

U.S. Department of Energy, B&W Pantex, Hwy. 60 & FM 2373, Bldg. 16-12, Amarillo, TX 79120.

U.S. Department of Energy, Office of Legacy Management, 2597 Legacy Way, Grand Junction, CO 81503.

U.S. Department of Energy, Technology Engineering Center, 4100 Guardian Street, Suite 160, Simi Valley, CA 93603.

U.S. Department of Energy, Peek Street Facility, Code NAVSEA 08U, Navy Sea System Command, 1240 Isaac Hull Avenue SE, Building 104, Washington Navy Yard, DC 20376-8036.

SYSTEM MANAGER(S):

Headquarters: U.S. Department of Energy, Office of Environment, Health, Safety and Security, 1000 Independence Avenue SW, Washington, DC 20585.

Field Offices: The managers of the Office of Environment, Health, Safety and Security of “Systems Locations” listed above are the system managers for their respective portions of this system.

AUTHORITY FOR MAINTENANCE OF THE SYSTEM:

42 U.S.C. 7101 et seq.; 50 U.S.C. 2401 et seq.; The Energy Employees Occupational Illness Compensation Program Act of 2000, Public Law 106-398, as amended, and Executive Order 13179, “Providing Compensation to America's Nuclear Weapons Workers.”

PURPOSE(S) OF THE SYSTEM:

Records in this system are collected and maintained by the Department to facilitate resolution of claims under the EEOICPA and to comply with the provisions of the EEOICPA, specifically the provisions of the Act that govern DOE's information sharing requirements.

CATEGORIES OF INDIVIDUALS COVERED BY THE SYSTEM:

This system of records covers individuals or their survivors who claim benefits under the Energy Employees Occupational Illness Compensation Program Act (EEOICPA). These individuals include, but are not limited to, federal employees or survivors of federal employees, employees or survivors of employees of the Department of Energy (including NNSA), its predecessor agencies, and their contractors and subcontractors.

CATEGORIES OF RECORDS IN THE SYSTEM:

This system of records is created by DOE in response to requests from the Department of Labor (DOL), the National Institute for Occupational Safety and Health (NIOSH), and claimants for information for the adjudication of claims. The records are compiled as part of DOE's responsibilities under the EEOICPA. Claim forms filed by or on behalf of claimants or their survivors seeking benefits under the EEOICPA; employment records; radiological and chemical exposure records; medical reports; individual medical records; personnel security questionnaires; payroll information/records; safety records or other incident reports, including but not limited to area sampling data, accidental releases, explosions, spills, etc.; accident reports; badging records; workers' compensation records; security badge records; security records; industrial hygiene records; and correspondence from individuals, DOL, and NIOSH.

RECORD SOURCE CATEGORIES:

Records in this system will be obtained from the individual who is the subject of the records; physicians and other medical professionals; medical institutions; state and federal workers' compensation offices; family members of the subject; attorneys representing the individual; individuals' employers, including DOE and its contractors and subcontractors; medical laboratories; and other state and federal agencies.

ROUTINE USES OF RECORDS MAINTAINED IN THE SYSTEM, INCLUDING CATEGORIES OF USERS AND PURPOSES OF SUCH USES:

1. A record from this system may be disclosed as a routine use to current or former DOE contractors in performance of their contracts, and their officers and employees who have a need for the record in the performance of their duties. Those provided information under this routine use are subject to the same limitations applicable to Department officers and employees under the Privacy Act.

2. A record from this system may be disclosed as a routine use to DOE financial assistance or cooperative agreement recipients in performance of their financial assistance agreements, and their officers and employees who have a need for the record in the performance of their duties.

3. A record from this system may be disclosed as a routine use to other state and federal agencies or entities whose mission entails reviewing or managing workers' compensation claims or administering other benefits programs.

4. A record from this system may be disclosed as a routine use to members of DOE's Former Worker Medical Screening Program, DOE or DOL advisory board members, and cooperative agreement holders of the Department of Labor, the Department of Health and Human Services, the Department of Justice, and other Federal agencies and their components to implement the Federal compensation program established by the Energy Employees Occupational Illness Compensation Program Act, for the purpose of outreach and assisting in the adjudication or processing of a claim under that Act.

5. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witnesses, potential witnesses, or their representatives and assistants; and (4) any other persons who possess information pertaining to the matter when it is necessary to obtain information or testimony relevant to the matter.

6. A record from this system may be disclosed as a routine use to the Department of Justice when DOE determines that an individual may be eligible for compensation under the Radiation Exposure and Compensation Act of 1990 (42 U.S.C. 2210, note, and as further clarified in title 28 Code of Federal Regulations (CFR) part 79), a compensation program administered by the Department of Justice.

7. A record from this system may be disclosed as a routine use to the appropriate local, tribal, state or federal agency when the record alone or in conjunction with other information, indicates a violation or potential violation of law whether civil, criminal, or regulatory in nature.

8. A record from this system may be disclosed as a routine use to a member of Congress submitting a request involving a constituent when the constituent has requested assistance from the member concerning the subject matter of the record. The member of Congress must provide a copy of the constituent's signed request for assistance.

9. A record from this system may be disclosed as a routine use to appropriate agencies, entities, and persons when (1) the Department suspects or has confirmed that there has been a breach of the system of records; (2) the Department has determined that as a result of the suspected or confirmed breach there is a risk of harm to individuals, DOE (including its information systems, programs, and operations), the Federal Government, or national security; and (3) the disclosure made to such agencies, entities, and persons is reasonably necessary to assist in connection with the Department's efforts to respond to the suspected or confirmed breach or to prevent, minimize, or remedy such harm.

10. A record from this system may be disclosed as a routine use to another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records may be stored as paper records, microfilm, or electronic media.

POLICIES AND PRACTICES FOR RETRIEVAL OF RECORDS:

Records are retrieved by the name of the individual, Social Security number, or employee number.

POLICIES AND PRACTICES FOR RETENTION AND DISPOSAL OF RECORDS:

Retention and disposition of these records is in accordance with the National Archives and Records Administration-approved records disposition schedules with a retention of 250 years.

ADMINISTRATIVE, TECHNICAL, AND PHYSICAL SAFEGUARDS:

Electronic records may be secured and maintained on a cloud-based software server and operating system that resides in Federal Risk and Authorization Management Program (FedRAMP) and Federal Information Security Modernization Act (FISMA) hosting environment. Data located in the cloud-based server is firewalled and encrypted at rest and in transit. The security mechanisms for handling data at rest and in transit are in accordance with DOE encryption standards. Records are protected from unauthorized access through the following appropriate safeguards:

• Administrative: Access to all records is limited to lawful government purposes only, with access to electronic records based on role and either two-factor authentication or password protection. The system requires passwords to be complex and to be changed frequently. Users accessing system records undergo frequent training in Privacy Act and information security requirements. Security and privacy controls are reviewed on an ongoing basis.

• Technical: Computerized records systems are safeguarded on Departmental networks configured for role-based access based on job responsibilities and organizational affiliation. Privacy and security controls are in place for this system and are updated in accordance with applicable requirements as determined by NIST and DOE directives and guidance.

• Physical: Computer servers on which electronic records are stored are located in secured Department facilities, which are protected by security guards, identification badges, and cameras. Paper copies of all records are locked in file cabinets, file rooms, or offices and are under the control of authorized personnel. Access to these facilities is granted only to authorized personnel and each person granted access to the system must be an individual authorized to use or administer the system.

RECORD ACCESS PROCEDURES:

The Department follows the procedures outlined in 10 CFR 1008.4. Valid identification of the individual making the request is required before information will be processed, given, access granted, or a correction considered, to ensure that information is processed, given, corrected, or records disclosed or corrected only at the request of the proper person.

CONTESTING RECORD PROCEDURES:

Any individual may submit a request to the System Manager and request a copy of any records relating to them. In accordance with 10 CFR 1008.11, any individual may appeal the denial of a request made by him or her for information about or for access to or correction or amendment of records. An appeal shall be filed within 90 calendar days after receipt of the denial. When an appeal is filed by mail, the postmark is conclusive as to timeliness. The appeal shall be in writing and must be signed by the individual. The words “PRIVACY ACT APPEAL” should appear in capital letters on the envelope and the letter. Appeals of denials relating to records maintained in government-wide system of records reported by Office of Personnel Management (OPM), shall be filed, as appropriate, with the Assistant Director for Agency Compliance and Evaluation, OPM, 1900 E Street NW, Washington, DC 20415. All other appeals relating to DOE records shall be directed to the Director, Office of Hearings and Appeals (OHA), 1000 Independence Avenue SW, Washington, DC 20585.

NOTIFICATION PROCEDURES:

In accordance with the DOE regulation implementing the Privacy Act, 10 CFR part 1008, a request by an individual to determine if a system of records contains information about themselves should be directed to the U.S. Department of Energy, Headquarters, Privacy Act Officer. The request should include the requester's complete name and the time period for which records are sought.

EXEMPTIONS PROMULGATED FOR THE SYSTEM:

None.

HISTORY:

This SORN was last published in the Federal Register, 74 FR 1008-1011, on January 9, 2009.

Signing Authority

This document of the Department of Energy was signed on September 13, 2024, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 18, 2024.
Treena V. Garrett,
Federal Register Liaison Officer, U.S. Department of Energy.

[FR Doc. 2024-21700 Filed 9-20-24; 8:45 am]

BILLING CODE 6450-01-P